UNIFIED CARRIER REGISTRATION PLAN

Sunshine Act Meeting Notice; Unified Carrier Registration Plan Board Subcommittee Meetings

TIME AND DATE: October 16, 2019, from 9:00 a.m. to 3:30 p.m., Pacific time.

PLACE: Embassy Suites—San Diego Bay Downtown, 601 Pacific Highway, San Diego, California. These meetings will also be accessible via conference call. Any interested person may call 1-866-210-1669, passcode 5253902#, to listen and participate in these meetings.

STATUS: These meetings will be open to the public.

MATTERS TO BE CONSIDERED: The Unified Carrier Registration Plan Board Subcommittees (each a “Subcommittee”) will continue their work in developing and implementing the Unified Carrier Registration Plan and Agreement. The subject matter of these meetings will include:

Procedures Subcommittee Meeting

October 16, 2019

Proposed Agenda

Open to the Public

I. Call to Order—UCR Board Chair

Since the Subcommittee is currently without a Chair, the UCR Board Chair will call the meeting to order.

II. Verification of Publication of Meeting Notice—UCR Operations Manager

The UCR Operations Manager will verify the publication of meeting notice on the UCR website and in the Federal Register.

III. Approval of Minutes from June 3, 2019 Meeting—UCR Operations Manager

For Discussion and Possible Subcommittee Action

• Minutes from the June 3, 2019 Procedures Subcommittee meeting will be reviewed and Subcommittee will consider approval.

IV. Proposed Amendments to UCR Handbook—UCR Board Vice Chair

For Discussion and Possible Subcommittee Action

• Proposed amendments to the UCR Handbook will be reviewed and the Subcommittee may act to recommend the amended language to the Board for adoption. The proposed amendments address the procedure for requesting, reviewing and processing carrier refunds, the situation whereby a carrier registers for UCR online and elects to pay by paper check, annual carrier audit requirements for participating states, and the definition of a commercial motor vehicle.

V. Proposed Amendment to the UCR Agreement—UCR Registration System

Subcommittee Chair

For Discussion and Possible Subcommittee Action

• A proposed amendment to the UCR Agreement will be reviewed and the Subcommittee may act to recommend the amended language to the Board for adoption. The proposed amendment would affect Section 10 of the UCR Agreement by clarifying the start and end dates of the UCR registration period each year.

VI. Proposed UCR Board Subcommittee Policy—UCR Administrator

For Discussion and Possible Subcommittee Action

• A proposed policy to establish criteria for individuals serving on UCR Board Subcommittees, as well as the composition of the Subcommittees, will be reviewed. The Subcommittee may act to recommend the policy to the Board for adoption.

VII. Proposed Written Information Security Policy—Chief Legal Officer

For Discussion and Possible Subcommittee Action

• A proposed policy to ensure the security, confidentiality, integrity, and availability of personal and other sensitive information collected, created, used, and maintained by the UCR, will be reviewed. The Subcommittee may act to recommend the policy to the Board for adoption.

VIII. Proposed Incident Response Plan—Chief Legal Officer

For Discussion and Possible Subcommittee Action

• A proposed policy to provide a structured and systematic incident response process for all information security incidents that affect any of the UCR's information technology systems, network, or data, including the UCR's data held or IT services provided by third-party vendors or other service providers, will be reviewed. The Subcommittee may act to recommend the policy to the Board for adoption.

IX. Other Items—UCR Board Chair

The Chair will call for any other items the Subcommittee members would like to discuss.

X. Adjourn—UCR Board Chair

The Chair will adjourn the meeting.

Unified Carrier Registration Plan

October 16, 2019

Audit Subcommittee Meeting

Agenda

Open to the Public

I. Call to Order—Subcommittee Chair

The Subcommittee Chair will call the meeting to order.

II. Verification of Meeting Notice—UCR Operations Manager

The UCR Operations Manager will verify the publication of meeting notice on the UCR website and in the Federal Register.

III. Approval of Minutes from September 19, 2019 Meeting—UCR Operations Manager

For Discussion and Possible Subcommittee Action

• Minutes from the September 19, 2019 Audit Subcommittee meeting will be reviewed and the Subcommittee will consider action to approve.

IV. Compliance Goal for Participating States—Subcommittee Chair

For Discussion and Possible Subcommittee Action

• The Subcommittee will consider and discuss the implications of establishing a base motor carrier registration rate annual goal of 85% for all participating states. The Subcommittee may act to recommend that the Board adopt this goal.

V. Solicitation of New and Unregistered Motor Carriers—Subcommittee Chair

For Discussion and Possible Subcommittee Action

• The Subcommittee will consider and discuss the implications of requiring participating states to solicit all new and unregistered motor carriers based in their state. The Subcommittee may act to recommend that the Board adopt this requirement.

VI. Other Items—Subcommittee Chair

The Subcommittee Chair will call for any other items the Subcommittee members would like to discuss.

VII. Adjournment—Subcommittee Chair

The Subcommittee Chair will adjourn the meeting.

Unified Carrier Registration Plan

October 16, 2019

Finance Subcommittee Meeting

Agenda

Open to the Public

I. Call to Order—Subcommittee Chair

Chair will call the meeting to order.

II. Verification of Meeting Notice—UCR Operations Manager

The UCR Operations Manager will verify the publication of meeting notice on the UCR website and in the Federal Register.

III. Approval of Minutes from June 3, 2019 Meeting—UCR Operations Manager

For Discussion and Possible Subcommittee Action

• Minutes from the June 3, 2019 Finance Subcommittee meeting will be reviewed and the Subcommittee will consider action to approve.

IV. Contract Addendum with UCR Administrator—Subcommittee Chair

For Discussion and Possible Subcommittee Action

• The Subcommittee will review and consider the terms of a proposed contract addendum with the management firm currently serving as the UCR Administrator. The Subcommittee may act to recommend execution of the addendum to the Board.

V. Ending 2018 FARs on December 31, 2019—Subcommittee Chair

For Discussion and Possible Subcommittee Action

• The Subcommittee will review a proposal requiring participating states to conclude their review and processing of any focused anomaly reviews (FARs) identified for the 2018 registration year. The Subcommittee may act to recommend this requirement to the Board for adoption.

VI. Other Items—Subcommittee Chair

The Subcommittee Chair will call for any other items the Subcommittee members would like to discuss.

VII. Adjourn—Subcommittee Chair

Chair will adjourn the meeting.

Unified Carrier Registration Plan

October 16, 2019

Education and Training Subcommittee Meeting

Agenda

Open to the Public

I. Call to Order—Subcommittee Chair

The Subcommittee Chair will call the meeting to order.

II. Verification of Meeting Notice—UCR Operations Manager

The UCR Operations Manager will verify the publication of meeting notice on the UCR website and in the Federal Register.

III. Approval of Minutes from June 3, 2019 Meeting—UCR Operations Manager

For Discussion and Possible Subcommittee Action

• Minutes from the June 3, 2019 Education and Training Subcommittee meeting will be reviewed and the Subcommittee will consider action to approve.

IV. Review of Timeline—Subcommittee Chair

The Subcommittee will receive a report on an estimated timeline of activity for the new UCR education and training program, with key milestones identified.

V. Other Items—Subcommittee Chair

The Subcommittee Chair will call for any other items the subcommittee members would like to discuss.

VI. Adjournment—Subcommittee Chair

Subcommittee Chair will adjourn the meeting.

Unified Carrier Registration Plan

October 16, 2019

Industry Advisory Subcommittee Meeting

Agenda

Open to the Public

I. Call to Order—Subcommittee Chair

The Subcommittee Chair will call the meeting to order.

II. Verification of Meeting Notice—UCR Operations Manager

The UCR Operations Manager will verify the publication of meeting notice on the UCR website and in the Federal Register.

III. Industry Feedback on UCR Program—Subcommittee Chair

The Subcommittee Chair will report on any recent feedback, concerns, etc. from the motor carrier industry which are related to the UCR and its National Registration System.

IV. Other Items—Subcommittee Chair

The Subcommittee Chair will call for any other items the Subcommittee members would like to discuss.

V. Adjournment—Subcommittee Chair

Subcommittee Chair will adjourn the meeting.

These agendas will be available no later than 5:00 p.m. Eastern daylight time, October 7, 2019 at: https://ucrplan.org.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2019-22245 Filed 10-7-19; 4:15 pm]

BILLING CODE 4910-YL-P